DEPARTMENT OF TRANSPORTATION

Federal Aviation Administration

14 CFR Part 39

[Docket No. FAA-2018-0297; Product Identifier 2017-NM-181-AD]

RIN 2120-AA64

Airworthiness Directives; Airbus Airplanes

AGENCY: Federal Aviation Administration (FAA), DOT.

ACTION: Notice of proposed rulemaking (NPRM).

SUMMARY: We propose to adopt a new airworthiness directive (AD) for certain Airbus Model A319 series airplanes; Model A320-211, -212, -214, -231, -232, and -233 airplanes; and Model A321-111, -112, -131, -211, -212, -213, -231, and -232 airplanes. This proposed AD was prompted by investigations that revealed that the cover seal of the brake dual distribution valve (BDDV) was damaged and did not ensure efficient sealing. This proposed AD would require identifying the BDDV part number installed on the airplane, and modifying or replacing BDDVs having certain part numbers. We are proposing this AD to address the unsafe condition on these products.

DATES: We must receive comments on this proposed AD by June 1, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Airbus, Airworthiness Office—EIAS, 1 Rond Point Maurice Bellonte, 31707 Blagnac Cedex, France; telephone +33 5 61 93 36 96; fax +33 5 61 93 44 51; email account.airworth-eas@airbus.com; internet http://www.airbus.com. You may view this service information at the FAA, Transport Standards Branch, 2200 South 216th St., Des Moines, WA. For information on the availability of this material at the FAA, call 206-231-3195.

Examining the AD Docket

You may examine the AD docket on the internet at http://www.regulations.gov by searching for and locating Docket No. FAA-2018-0297; or in person at the Docket Management Facility between 9 a.m. and 5 p.m., Monday through Friday, except Federal holidays. The AD docket contains this NPRM, the regulatory evaluation, any comments received, and other information. The street address for the Docket Operations office (telephone 800-647-5527) is in the ADDRESSES section. Comments will be available in the AD docket shortly after receipt.

FOR FURTHER INFORMATION CONTACT: Sanjay Ralhan, Aerospace Engineer, International Section, Transport Standards Branch, FAA, 2200 South 216th St., Des Moines, WA 98198; telephone and fax 206-231-3223.

SUPPLEMENTARY INFORMATION:

Comments Invited

We invite you to send any written relevant data, views, or arguments about this proposed AD. Send your comments to an address listed under the ADDRESSES section. Include “Docket No. FAA-2018-0297; Product Identifier 2017-NM-181-AD” at the beginning of your comments. We specifically invite comments on the overall regulatory, economic, environmental, and energy aspects of this NPRM. We will consider all comments received by the closing date and may amend this NPRM based on those comments.

We will post all comments we receive, without change, to http://www.regulations.gov, including any personal information you provide. We will also post a report summarizing each substantive verbal contact we receive about this NPRM.

Discussion

The European Aviation Safety Agency (EASA), which is the Technical Agent for the Member States of the European Union, has issued EASA Airworthiness Directive 2017-0119, dated July 11, 2017 (referred to after this as the Mandatory Continuing Airworthiness Information, or “the MCAI”), to correct an unsafe condition for certain Airbus Model A319 series airplanes; Model A320-211, -212, -214, -231, -232, and -233 airplanes; and Model A321-111, -112, -131, -211, -212, -213, -231, and -232 airplanes. The MCAI states:

In 1998, an operator experienced a dual loss of braking systems. Investigation results revealed that the cover seal of the BDDV was damaged and did not ensure the sealing efficiency.

This condition, if not corrected, could lead to water ingestion in the BDDV, freezing of the BDDV in flight, and consequent loss of braking system function after landing, possibly resulting in damage to the aeroplane and injury to occupants.

To address this potential unsafe condition, Airbus issued Alert Operator Telex (AOT) 32-19 and Service Bulletin (SB) A320-32-1199, providing instructions for repetitive functional tests. In addition, Airbus developed mod 28301 and published SB A320-32-1203 to provide modification instructions.

Consequently, DGAC France issued AD 2000-258-146 [which corresponds to FAA AD 2001-15-10, Amendment 39-12344 (66 FR 39413, dated July 31, 2001) (“AD 2001-15-10”)] to require repetitive functional tests as a temporary solution (valid for a period of 15 months) and modification of the BDDV with a new cover and installation of a draining tube with a cap, which was terminating action for the repetitive functional tests. For pre-mod 27833 and pre-SB A320-32-1200 aeroplanes, repetitive inspections per SB A320-32-1199 were required as interim action, prior to the terminating action modification per SB A320-32-1203.

After that [DGAC] AD was issued, following a new event, Airbus developed a new modification of the BDDV drain tube which leaves it open, ensuring continuous drainage of any ingested water, thereby preventing freezing of the brake system.

Consequently, EASA issued AD 2014-0251 (later revised), partially retaining the requirements of DGAC France AD 2000-258-146, which was superseded, and requiring an additional modification of the BDDV drain tube and re-identification of the BDDV.

Since EASA AD 2014-0251R1 [which corresponds to FAA AD 2016-06-13, Amendment 39-18444 (81 FR 17365, dated March 29, 2016) (“AD 2016-06-13”)] was issued, comments were received that indicated a need for correction and clarification. Consequently, this [EASA] AD retains the requirements of EASA AD 2014-0251R1, which is superseded, and expands the list of BDDV Part Numbers (P/N) which must be removed from service and are no longer eligible for installation on an aeroplane [and includes replacing affected part numbers as an option]. This [EASA] AD also clarifies the intended requirements of EASA AD 2014-0251 and introduces editorial changes, not affecting the requirements.

Paragraph (1) of the MCAI is addressed in paragraphs (e) and (f) of FAA AD 2001-15-10; Paragraph (2) of the MCAI is addressed in paragraph (g) of FAA AD 2016-06-13.

This NPRM would not supersede AD 2001-15-10 and AD 2016-06-13. Rather, we have determined that a stand-alone AD would be more appropriate to address the changes in the MCAI. This NPRM would require identifying the BDDV part number installed on the airplane, and modifying or replacing BDDVs having certain part numbers.

Doing the proposed actions would terminate the requirements in paragraphs (e) and (f) of AD 2001-15-10, and would terminate all of the requirements of AD 2016-06-13.

You may examine the MCAI in the AD docket on the internet at http://www.regulations.gov by searching for and locating Docket No. FAA-2018-0297.

Related Service Information Under 1 CFR Part 51

Airbus has issued Service Bulletin A320-32-1203, Revision 02, dated February 9, 2001. This service information describes procedures for identifying the BDDV part number installed on the airplane, and modifying or replacing BDDVs having certain part numbers.

Airbus has also issued Service Bulletin A320-32-1415, Revision 02, dated December 10, 2015. This service information describes procedures for modifying and re-identifying the BDDV. The modification includes modifying the drain hose of the BDDV, and doing all related investigative and corrective actions if applicable. The related investigative actions include an inspection for corrosion. Corrective actions include replacing the BDDV.

This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 1,136 airplanes of U.S. registry.

We estimate the following costs to comply with this proposed AD:

Estimated Costs
Action | Labor cost | Parts cost | Cost per product | Cost on U.S. operators
Identification and modification or replacement | 6 work-hours × $85 per hour = $510 | $395 | $905 | $1,028,080

We have received no definitive data that would enable us to provide cost estimates for the on-condition actions specified in this proposed AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2018-0297; Product Identifier 2017-NM-181-AD.

(a) Comments Due Date

We must receive comments by June 1, 2018.

(b) Affected ADs

This AD affects AD 2001-15-10, Amendment 39-12344 (66 FR 39413, dated July 31, 2001) (“AD 2001-15-10”), and AD 2016-06-13, Amendment 39-18444 (81 FR 17365, dated March 29, 2016) (“AD 2016-06-13”).

(c) Applicability

This AD applies to the airplanes identified in paragraphs (c)(1) through (c)(3) of this AD, certificated in any category, all manufacturer serial numbers, except those on which Airbus Modification 26925 has been embodied in production, which introduces a modified alternate braking system that removes the brake dual distribution valve (BDDV).

(1) Airbus Model A319-111, -112, -113, -114, -115, -131, -132, and -133 airplanes.

(2) Airbus Model A320-211, -212, -214, -231, -232, and -233 airplanes.

(3) Airbus Model A321-111, -112, -131, -211, -212, -213, -231, and -232 airplanes.

(d) Subject

Air Transport Association (ATA) of America Code 32, Landing gear.

(e) Reason

This AD was prompted by investigations that revealed that the cover seal of the brake dual distribution valve (BDDV) was damaged and did not ensure efficient sealing. We are issuing this AD to prevent water ingestion in the BDDV, freezing of the BDDV in flight, and consequent loss of braking system function after landing. These conditions could possibly result in damage to the airplane and injury to occupants.

(f) Compliance

Comply with this AD within the compliance times specified, unless already done.

(g) Identification and Modification or Replacement

Within 3 months after the effective date of this AD, identify the BDDV part number installed on the airplane. For each affected BDDV part number specified in figure 1 to paragraphs (g) and (h) of this AD, within 3 months after the effective date of this AD, do the actions in paragraph (g)(1), (g)(2), or (g)(3) of this AD. A review of airplane maintenance records is acceptable to identify the BDDV part number if the part number of the BDDV can be conclusively determined from that review.

(1) Modify and re-identify the affected BDDV, in accordance with the Accomplishment Instructions of Airbus Service Bulletin A320-32-1203, Revision 02, dated February 9, 2001.

(2) Modify and re-identify the affected BDDV, and do all applicable related investigative and corrective, in accordance with the Accomplishment Instructions of Airbus Service Bulletin A320-32-1415, Revision 02, dated December 10, 2015. Do all applicable related investigative and corrective actions before further flight.

(3) Replace the affected BDDV with a BDDV having a part number not specified in figure 1 to paragraphs (g) and (h) of this AD, or a part number specified as `new P/N' in figure 2 to paragraphs (g)(3) and (h)(2) of this AD. Do the replacement using a method approved by the Manager, International Section, Transport Standards Branch, FAA; or the European Aviation Safety Agency (EASA); or Airbus's EASA Design Organization Approval (DOA). If approved by the DOA, the approval must include the DOA-authorized signature.

(h) Parts Installation Prohibition

As of the applicable time specified in paragraph (h)(1) or (h)(2) of this AD, no person may install a BDDV having a part number specified in figure 1 to paragraphs (g) and (h) of this AD, on any airplane.

(1) For any airplane that, on the effective date of this AD, has a BDDV installed with a part number specified in figure 1 to paragraphs (g) and (h) of this AD: After modification of the airplane, as required by paragraph (g) of this AD.

(2) For any airplane that, on the effective date of this AD, has a BDDV installed with a part number specified as `new P/N' in figure 2 to paragraphs (g)(3) and (h)(2) of this AD, or has a BDDV installed with a part number not specified in figure 1 to paragraphs (g) and (h) of this AD: As of the effective date of this AD.

(i) Terminating Action for Other ADs

(1) Doing the actions in paragraph (g) of this AD terminates the requirements in paragraphs (e) and (f) of AD 2001-15-10.

(2) Doing the actions in paragraph (g) of this AD terminates all of the requirements of AD 2016-06-13.

(j) Credit for Previous Actions

(1) This paragraph provides credit for actions required by paragraph (g)(1) of this AD, if those actions were performed before the effective date of this AD using the service information in paragraphs (j)(1)(i) and (j)(1)(ii) of this AD.

(i) Airbus Service Bulletin A320-32-1203, dated June 4, 1999, which was incorporated by reference in AD 2001-15-10.

(ii) Airbus Service Bulletin A320-32-1203, Revision 01, dated October 12, 2000.

(2) This paragraph provides credit for actions required by paragraph (g)(2) of this AD, if those actions were performed before the effective date of this AD using the service information in paragraphs (j)(2)(i) and (j)(2)(ii) of this AD.

(i) Airbus Service Bulletin A320-32-1415, dated September 2, 2014, which was incorporated by reference in AD 2016-06-13.

(ii) Airbus Service Bulletin A320-32-1415, Revision 01, dated April 23, 2015.

(k) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (l)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or the European Aviation Safety Agency (EASA); or Airbus's EASA Design Organization Approval (DOA). If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(l) Related Information

(1) Refer to Mandatory Continuing Airworthiness Information (MCAI) EASA Airworthiness Directive 2017-0119, dated July 11, 2017, for related information. This MCAI may be found in the AD docket on the internet at http://www.regulations.gov by searching for and locating Docket No. FAA-2018-0297.

(2) For more information about this AD, contact Sanjay Ralhan, Aerospace Engineer, International Section, Transport Standards Branch, FAA, 2200 South 216th St., Des Moines, WA 98198; telephone and fax 206-231-3223.

(3) For service information identified in this AD, contact Airbus, Airworthiness Office—EIAS, 1 Rond Point Maurice Bellonte, 31707 Blagnac Cedex, France; telephone +33 5 61 93 36 96; fax +33 5 61 93 44 51; email account.airworth-eas@airbus.com; internet http://www.airbus.com. You may view this service information at the FAA, Transport Standards Branch, 2200 South 216th St., Des Moines, WA. For information on the availability of this material at the FAA, call 206-231-3195.

Issued in Des Moines, Washington, on March 30, 2018.
Chris Spangenberg,
Acting Director, System Oversight Division, Aircraft Certification Service.

[FR Doc. 2018-07637 Filed 4-16-18; 8:45 am]

BILLING CODE 4910-13-P